DEPARTMENT OF HEALTH AND HUMAN SERVICES

National Institutes of Health

National Institute of Environmental Health Sciences; Notice of Meeting

Pursuant to section 10(d) of the Federal Advisory Committee Act, as amended (5 U.S.C. Appendix 2), notice is hereby given of a meeting of the Board of Scientific Counselors, NIEHS.

The meeting will be open to the public as indicated below, with attendance limited to space available. Individuals who plan to attend and need special assistance, such as sign language interpretation or other reasonable accommodations, should notify the Contact Person listed below in advance of the meeting.

The meeting will be closed to the public as indicated below in accordance with the provisions set forth in section 552b(c)(6), Title 5 U.S.C., as amended for the review, discussion, and evaluation of individuals conducted by the National Institute of Environmental Health Sciences, including consideration of personnel qualifications and performance, and the competence of individual investigators, the disclosure of which would constitute a clearly unwarranted invasion of personal privacy.

Name of Committee: Board of Scientific Counselors, NIEHS.

Date: November 16-18, 2008.

Closed: November 16, 2008, 7 p.m. to 9:30 p.m.

Agenda: To review and evaluate programmatic and personnel issues.

Place: Doubletree Guest Suites, 2515 Meridian Parkway, Research Triangle Park, NC 27713.

Closed: November 17, 2008, 8:30 a.m. to 9:15 a.m.

Agenda: To review and evaluate programmatic and personnel issues.

Place: Nat. Inst. of Environmental Health Sciences, Building 101, Executive Conference Room, 111 T.W. Alexander Drive, Research Triangle Park, NC 27709.

Open: November 17, 2008, 9:15 a.m. to 11:35 a.m.

Agenda: An overview of the organization and research in the Biostatistics Branch.

Place: NIEHS/National Institutes of Health, South Campus, Conference Rooms 101A-C, Research Triangle Park, NC 27709.

Closed: November 17, 2008, 11:35 a.m. to 12:25 p.m.

Agenda: To review and evaluate programmatic and personnel issues.

Place: NIEHS/National Institutes of Health, South Campus, Conference Rooms 101A-C, Research Triangle Park, NC 27709.

Open: November 17, 2008, 1 p.m. to 1:45 p.m.

Agenda: Poster Session.

Place: NIEHS/National Institutes of Health, South Campus, Conference Rooms 101A-C, Research Triangle Park, NC 27709.

Closed: November 17, 2008, 1:45 p.m. to 5:15 p.m.

Agenda: To review and evaluate programmatic and personnel issues.

Place: NIEHS/National Institutes of Health, South Campus, Conference Rooms 101A-C, Research Triangle Park, NC 27709.

Closed: November 17, 2008, 5:15 p.m. to Adjournment.

Agenda: To review and evaluate programmatic and personnel issues.

Place: Doubletree Guest Suites, 2515 Meridian Parkway, Research Triangle Park, NC 27713.

Closed: November 18, 2008, 9 a.m. to 10 a.m.

Agenda: To review and evaluate programmatic and personnel issues.

Place: NIEHS/National Institutes of Health, South Campus, Conference Rooms 101A-C, Research Triangle Park, NC 27709.

Contact Person: Perry J Blackshear, PhD, MD, Acting Scientific Director, Division of Intramural Research, National Inst. of Environmental Health Sciences, National Institutes of Health, P.O. Box 12233, Research Triangle Park, NC 27709, (919) 541-4899, black009@niehs.nih.gov.

Any interested person may file written comments with the committee by forwarding the statement to the Contact Person listed on this notice. The statement should include the name, address, telephone number and when applicable, the business or professional affiliation of the interested person.

(Catalogue of Federal Domestic Assistance Program Nos. 93.115, Biometry and Risk Estimation—Health Risks from Environmental Exposures; 93.142, NIEHS Hazardous Waste Worker Health and Safety Training; 93.143, NIEHS Superfund Hazardous Substances—Basic Research and Education; 93.894, Resources and Manpower Development in the Environmental Health Sciences; 93.113, Biological Response to Environmental Health Hazards; 93.114, Applied Toxicological Research and Testing, National Institutes of Health, HHS)

Dated: October 14, 2008.
Jennifer Spaeth,
Director, Office of Federal Advisory Committee Policy.

[FR Doc. E8-25036 Filed 10-20-08; 8:45 am]

BILLING CODE 4140-01-P